NATIONAL AERONAUTICS AND SPACE ADMINISTRATION

[Notice 05-146]

Notice of Prospective Patent License

AGENCY: National Aeronautics and Space Administration.

ACTION: Notice of prospective patent license.

SUMMARY: This notice is issued in accordance with 35 U.S.C. 209(c)(1) and 37 CFR 404.7(a)(1)(i). NASA is contemplating the granting of an exclusive license in the United States to practice the inventions described and claimed in U.S. Patents 4,815,279, “Hybrid Plume Plasma Rocket,” 4,893,470, “Method of Hybrid Plume Plasma Propulsion,” and 6,334,302, “Variable Specific Impulse Magnetoplasma Rocket Engine,” to Ad Astra Technologies, Inc., having a place of business in Houston, TX and incorporated in the state of Delaware. The fields of use may be limited to exoatmospheric applications. The patent rights in the inventions have been assigned to the United States of America as represented by the Administrator of the National Aeronautics and Space Administration. The prospective exclusive license will comply with the terms and conditions of 35 U.S.C. 209 and 37 CFR 404.7.

DATES: The prospective partially exclusive license may be granted within fifteen (15) days from the date of this published notice, unless NASA receives written evidence and argument that establish that the grant of the license would not be consistent with the requirements of 35 U.S.C. 209 and 37 CFR 404.7. Competing applications completed and received by NASA within fifteen (15) days of the date of this published notice will be treated as objections to the grant of the contemplated partially exclusive license.

NASA's practice is to make comments, including names and home addresses of respondents, available for public review. Individual respondents may request that we withhold their home address from public disclosure, which we will honor to the extent allowable by law. There may be circumstances in which we would withhold a respondent's identity from public disclosure, as allowable by law. If you wish us to withhold your name and/or address, you may state this prominently at the beginning of your comment. We will make all submissions from organizations or businesses, and from individuals identifying themselves as representatives or officials of organizations or businesses, available for public disclosure in their entirety.

ADDRESSES: Inquires, comments, objections, and other material relating to the contemplated license may be submitted to Patent Counsel, Office of Chief Counsel, Johnson Space Center, Mail Code AL, 2101 NASA Parkway, Houston, Texas 77058.

FOR FURTHER INFORMATION CONTACT: Theodore Ro, Patent Attorney, NASA Johnson Space Center, Mail Stop AL, Houston, TX 77058-8452; telephone (281) 244-7148.

Dated: September 28, 2005.
Keith T. Sefton,
Deputy General Counsel, Administration and Management.

[FR Doc. 05-19983 Filed 10-4-05; 8:45 am]

BILLING CODE 7510-13-P